DEPARTMENT OF TRANSPORTATION

Surface Transportation Board

[Docket No. FD 35484]

Arkansas Shortline Railroads, Inc.—Continuance in Control Exemption—Dardanelle & Russellville Railroad, Inc., Ouachita Railroad, and Camden & Southern Railroad, Inc.

Arkansas Shortline Railroads, Inc. (ASR), a noncarrier, has filed a verified notice of exemption pursuant to 49 CFR 1180.2(d)(2) to continue in control of Camden & Southern Railroad, Inc. (C&S), upon C&S's becoming a Class III rail carrier.

This transaction is related to a verified notice of exemption filed on April 7, 2011, in Docket No. FD 35483, Camden & Southern Railroad, Inc.—Lease & Operation Exemption—Camden Area Industrial Development Corporation. In that proceeding, C&S seeks an exemption under 49 CFR 1150.31 to lease and operate 17,837 feet of trackage owned by Camden Area Industrial Development Corporation, located at Zone JH482, Yard 06, opposite milepost 463 of Union Pacific Railroad Company's Gurdon Subdivision, Camden, Ouachita County, Ark.

The parties intend to consummate the transaction on or shortly after the effective date of the related notice.

ASR currently controls 2 Class III railroads, Dardanelle & Russellville Railroad, Inc. and Ouachita Railroad.

ASR represents that: (1) The rail line to be operated by C&S does not connect with any other railroads in the corporate family; (2) the transaction is not part of a series of anticipated transactions that would connect the rail lines with any other railroad in the corporate family; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under § 11324 and § 11325 that involve only Class III rail carriers. Accordingly, the Board may not impose labor protective conditions here because all of the carriers involved are Class III carriers.

If the verified notice contains false or misleading information, the exemption is void ab initio. Petitions to revoke the exemption under 49 U.S.C. 10502(d) may be filed at any time. The filing of a petition to revoke will not automatically stay the effectiveness of the exemption. Stay petitions must be filed no later than April 29, 2011 (at least 7 days before the exemption becomes effective).

An original and 10 copies of all pleadings, referring to Docket No. FD 35484, must be filed with the Surface Transportation Board, 395 E Street, SW., Washington, DC 20423-0001. In addition, one copy of each pleading must be served on Richard H. Streeter, 5255 Partridge Lane, NW., Washington, DC 20016.

Board decisions and notices are available on our Web site at http://www.stb.dot.gov.

Decided: April 12, 2011.
By the Board.
Rachel D. Campbell,
Director, Office of Proceedings.
Jeffrey Herzig,
Clearance Clerk.

[FR Doc. 2011-9262 Filed 4-15-11; 8:45 am]

BILLING CODE 4915-01-P